DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 18, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on January 09, 2020.
Donald P. Burger,
Chief, General Approvals and Permits Branch.

Application No. | Applicant | Regulation(s) affected | Nature of the special permits thereof
SPECIAL PERMITS DATA—Granted
12440-M | Luxfer Inc | 173.301(a)(1), 173.302(a), 173.304(a), 180.205(a) | To modify the special permit to authorize an additional Division 2.2 hazmat.
12516-M | Poly-coat Systems, Inc | 107.503(b), 107.503(c), 173.241, 173.242 | To modify the special permit to remove the requirement that the special permit number be shown on shipping papers.
15389-M | Ametek Ameron, Llc | 173.301(a)(1), 173.302(f)(1), 173.302(f)(2), 173.302a(a)(1), 173.304(f)(1), 173.304(f)(2), 173.304a(a)(1) | To modify the special permit to authorize an alternative means of performing cylinder lot acceptance testing.
16524-M | Quantum Fuel Systems Llc | 173.302(a) | To modify the special permit to authorize a lighter class of tow vehicle.
20493-M | Tesla, Inc | 172.101(j) | To modify the special permit to authorize the transportation in commerce of non-wired battery modules.
20499-M | Inmar Rx Solutions, Inc |  | To modify the special permit to change it from an MMS to an offer type permit.
20534-N | Energy Transport Solutions Llc | 172.101(i)(3) | To authorize the transportation in commerce of methane, refrigerated liquid in DOT specification 113C120W tank cars.
20913-N | Tiveni Gmbh | 173.185(a) | To authorize the transportation in commerce of prototype lithium ion batteries by cargo-only aircraft.
20976-N | The National Reconnaissance Office | 173.185(a) | To authorize the transportation in commerce of low production lithium ion batteries contained in equipment (a spacecraft).
20980-N | Clean Harbors, Inc | 178.345-8(c)(1), 178.345-8(c)(2) | To authorize the transportation in commerce of a non-DOT specification tanker with a suspect valve.
SPECIAL PERMITS DATA—Denied
14298-M | Versum Materials, Llc | 180.209(a), 180.209(b), 180.209(b)(1)(iv) | To modify the special permit to authorize the addition of tungsten hexafluoride as an authorized hazardous material.
20892-N | Natural Choice Corporation | 172.200, 172.300, 172.500, 172.400 | To authorize the transportation in commerce of DOT 3AL cylinders containing carbon dioxide with alternate hazard communication.
20936-N | Co2 Exchange Llc | 171.2(k) | To authorize the transportation in commerce of certain DOT 3AL, TC/3ALM and UN ISO 7866 cylinders that contain carbon dioxide, with alternative hazard communication.
20944-N | Linde Gas North America Llc | 173.304a(a) | To authorize the transportation in commerce of non-DOT specification cylinders.
20947-N | Tmk Technics Corporation | 171.2(k), 172.200, 172.400, 172.700(a) | To authorize the transportation in commerce of certain DOT 3AL, cylinders that contain carbon dioxide, with alternative hazard communication. Additionally, cylinders with a gauge pressure less than 200 kPa (29.0 psig/43.8 psia) at 20 °C (68 °F) are authorized to be transported as a hazardous material under the conditions of this special permit.
20950-N | Zhejiang Chumboon Iron-printing& Tin-making Co., ltd | 173.304(d) | This special permit authorizes the manufacture, marking, sale and use of a non-refillable, non-DOT specification inside metal container.
SPECIAL PERMITS DATA—Withdrawn
20918-N | Salco Products Inc | 172.704, 179.7 | To authorize the use of packaging components that have been manufactured by entity that has not obtained its AAR facility certification.
20970-N | Union Tank Car Company | 172.203(a), 172.302(c), 173.247(a) | To authorize the transportation in commerce of DOT 117 tank cars containing elevated temperature materials.
20982-N | Ford Motor Company | 172.101(j) | To authorize the transportation in commerce of lithium ion batteries exceeding 35 kg aboard cargo-only aircraft.

[FR Doc. 2020-00606 Filed 1-15-20; 8:45 am]

BILLING CODE 4909-60-P